DEPARTMENT OF HEALTH AND HUMAN SERVICES

Administration for Community Living

[OMB No. 0985-0036]

Agency Information Collection Activities; Proposed Collection; Comment Request; Prevention and Public Health Fund Evidence-Based Chronic Disease Self-Management Education Program Information Collection

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the proposed extension and solicits comments on the information collection requirements related to ACL's Prevention and Public Health Fund Evidence-Based Chronic Disease Self-Management Education Program Information Collection.

DATES: Comments on the collection of information must be submitted electronically by 11:59 p.m. (EST) or postmarked by September 19, 2022.

ADDRESSES: Submit electronic comments on the collection of information to: Lesha Spencer-Brown (Lesha.spencer-brown@acl.hhs.gov). Submit written comments on the collection of information to Administration for Community Living, Washington, DC 20201, Attention: Lesha Spencer-Brown.

FOR FURTHER INFORMATION CONTACT: Lesha Spencer-Brown, Administration for Community Living, Washington, DC 20201, Lesha.spencer-brown@acl.hhs.gov, (202) 795-7331.

SUPPLEMENTARY INFORMATION: Under the PRA (44 U.S.C. 3501-3520), Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) ways to enhance the quality, utility, and clarity of the information to be collected;

(3) accuracy of ACL's estimate of the burden of the proposed collection of information, including the validity of the methodology and assumptions used to determine burden estimates;

(4) ways to minimize the burden of the collection of information on respondents, including through the use of automated collection techniques when appropriate, and other forms of information technology.

(5) ways to ensure that ACL is gathering necessary and relevant demographic information to assess diversity and equity in evidence-based program scaling and participation, and advances the Executive Order on Advancing Racial Equity and Support for Underserved Communities Through the Federal Government and the Executive Order on Advancing Equality for Lesbian, Gay, Bisexual, Transgender, Queer, and Intersex Individuals.

The Evidence-Based Chronic Disease Self-Management Education (CDSME) Grant Program is financed through the Prevention and Public Health Fund (PPHF). The statutory authority for cooperative agreements under the most recent program announcement (FY 2022) is contained in the Older Americans Act, Title IV; and the Patient Protection and Affordable Care Act, 42 U.S.C. 300u-11 (Prevention and Public Health Fund). The CDSME Grant Program supports a National CDSME Resource Center that provides technical assistance, education, and resources for the national CDSME network of partners, and awards competitive grants to implement and promote the sustainability of evidence-based CDSME programs that have been proven to provide older adults and adults with disabilities with education and tools to help them better manage chronic conditions such as diabetes, heart disease, arthritis, chronic pain, and depression. OMB approval of the existing set of CDSME data collection tools (OMB Control Number, 0985-0036) expires on 11/30/2022. This data collection continues to be necessary for the monitoring of program operations and outcomes.

ACL currently uses and proposes to continue to use a set of tools to collect information for each program including: (1) Program Information Cover Sheet and Attendance Log, to be completed by the program leaders; and a (2) Participant Information Survey to be completed by participants on a voluntary basis before or at the beginning of the first program session and to answer three questions at the last session to document their demographic and health characteristics. ACL/AoA intends to continue using an online data entry system for the program and participant survey data.

During the 60-day public comment period, ACL intends to analyze public comments received, conduct focus groups that includes a sub-set of current CDSME grantees, as well as consult with subject-matter experts to gather feedback and determine if changes to the data collection tools are warranted.

The proposed data collection tools may be found on the ACL website for review at https://www.acl.gov/about-acl/public-input.

Estimated Program Burden

ACL estimates the burden associated with this collection of information as follows:

Respondent/data collection activity | Number of respondents | Responses per respondent | Hours per response | Annual burden hours
Program facilitators (Program Information Cover Sheet, Attendance Log) | 680 | Twice per year (one set per program) | .30 | 408.00
Program participants (Participant Information Survey) | 14,000 | 1 | .15 | 2,100
Data entry staff (Program Information Cover Sheet, Attendance Log, Participant Information Survey) | 78 | Once per program times 1,360 programs | .17 | 231.2
Total Burden Hours: |  |  |  | ** 2,740
** Rounded to the nearest hour.

Alison Barkoff,
Acting Administrator and Assistant Secretary for Aging.

[FR Doc. 2022-15329 Filed 7-18-22; 8:45 am]

BILLING CODE 4154-01-P